DEPARTMENT OF THE INTERIOR

National Park Service

Environmental Impact Statement for the Great Smoky Mountains National Park

AGENCY: National Park Service, Interior.

ACTION: Notice of Intent to prepare an Environmental Impact Statement for the Cades Cove Development Concept and Transportation Management Plan for Great Smoky Mountains National Park.

SUMMARY: In accordance with Section 102(2)(C) of the National Environmental Policy Act (42 USC 4321 et. seq.), the National Park Service (NPS) is undertaking an analysis process to determine the visitor experience and transportation requirements of the Cades Cove area of great Smoky Mountains National Park. This analysis, the Cades Cove Development Concept and Transportation Management Plan and Environmental Impact Statement (EIS), will identify and assess potential impacts of alternative transportation management concepts and modes of travel to and within the Cades Cove area of the Park. The goal of this plan is to enhance the visitor experience and protect park resources. Notice is hereby given that a public scoping process has been initiated to prepare the Cades Cove Development Concept and Transportation Management Plan and EIS. The purpose of the scoping process is to elicit public comment regarding the full spectrum of public issues and concerns, including a suitable range of alternatives, the nature and extent of potential environmental impacts, and appropriate mitigation strategies which should be addressed in the EIS process.

DATES: Beginning in Spring, 2002, public scoping meetings will be conducted in the vicinity of Great Smoky Mountains National Park. The location, date, and time of scoping meetings and deadlines for written comments will be announced via local and regional media and appropriate Internet locations. All interested individuals, organizations, and agencies are invited to attend these meetings to comment orally and/or provide written comments or suggestions during the scoping period.

ADDRESSES: Additional comments, suggestions, or relevant information (or those wishing to be added to the mailing list) should be mailed or hand delivered to the attention of Cades Cove Development Concept and Transportation Management Plan and EIS, Great Smoky Mountains National Park, 107 Park Headquarters Road, Gatlinburg, TN 37738.

FOR FURTHER INFORMATION CONTACT: Michael Tollefson, Superintendent, Great Smoky Mountains National Park (865) 436-1207 or Fax (865) 436-1220.

SUPPLEMENTARY INFORMATION: The purpose of this planning initiative is to develop a long-term Development Concept and Transportation Management Plan and EIS for the Cades Cove area of Great Smoky Mountains National Park. The Plan and EIS will examine local, natural and cultural resources, existing Park facilities and infrastructure, current and projected visitation trends, and incorporate a public involvement plan in developing a range of alternatives and transportation strategies that improve the visitor experience.

Cades Cove is located within Great Smoky Mountains National Park in southeastern Tennessee. The study area lies within Blount County, Tennessee, which is part of the Knoxville Regional Transportation Planning Organization's designated planning area. Visitation in the Cove has tripled in the last 20 years, and has doubled since 1990, with more than 2.1 million visitors annually. Fifty percent of the time during peak summer and fall seasons, the Cove's Loop Road is very congested.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Availability of the draft Cades Cove Development Concept and Transportation Management Plan and EIS for review and written comment will be announced by Federal Register notice, via the news media, appropriate Internet locations, Web site, and direct mailing to the project mailing list. At the time the draft Cades Cove Development Concept and Transportation Management Plan and EIS is anticipated to be available for public review in 2004. To afford additional opportunity to comment on the draft Cades Cove Development Concept and Transportation Management Plan and EIS after it is distributed, public meetings will be held in the vicinity of Great Smoky Mountains National Park (dates and locations to be determined).

Dated: February 27, 2002.
Patricia A. Hooks,
Regional Director, Southeast Region.

[FR Doc. 02-8623 Filed 4-10-02; 8:45 am]

BILLING CODE 4310-70-M